DEPARTMENT OF HOMELAND SECURITY

Coast Guard

33 CFR Parts 100 and 165

[USCG-2005-22002]

Quarterly Listings; Special Local Regulations, Safety Zones and Security Zones

AGENCY: Coast Guard, DHS.

ACTION: Notice of temporary rules issued.

SUMMARY: This document provides required notice of substantive rules issued by the Coast Guard and temporarily effective between April 1, 2005 and June 30, 2005, that were not published in the Federal Register. This quarterly notice lists special local regulations, safety zones and security zones, all of limited duration and for which timely publication in the Federal Register was not possible.

DATES: This document lists temporary Coast Guard rules that became effective and were terminated between April 1, 2005, and June 30, 2005.

ADDRESSES: The Department of Transportation Docket Management Facility maintains the public docket for this notice. Documents indicated in this notice will be available for inspection or copying at the Docket Management Facility, U.S. Department of Transportation, Room PL-401, 400 Seventh Street, SW., Washington, DC 20593-0001 between 9 a.m. and 5 p.m., Monday through Friday, except Federal holidays. You may electronically access the public docket for this notice on the Internet at http://dms.dot.gov. The public docket contains a scanned copy of each original regulation listed in this notice.

FOR FURTHER INFORMATION CONTACT: For questions on this notice contact Erin McMunigal, Office of Regulations and Administrative Law, telephone (202) 267-0131. For questions on viewing, or on submitting material to the docket, contact Renee Z. Wright, Acting Program Manager, Docket Operations, telephone 202-493-0402.

SUPPLEMENTARY INFORMATION: Coast Guard District Commanders and Captains of the Port (COTP) must be immediately responsive to the safety and security needs within their jurisdiction; therefore, District Commanders and COTPs have been delegated the authority to issue certain regulations. Safety zones may be established for safety or environmental purposes. A safety zone may be stationary and described by fixed limits or it may be described as a zone around a vessel in motion. Security zones limit access to prevent injury or damage to vessels, ports, or waterfront facilities and may also describe a zone around a vessel in motion. Special local regulations are issued to enhance the safety of participants and spectators at regattas and other marine events. Timely publication of these rules and in the Federal Register is often precluded when a rule responds to an emergency, or when an event occurs without sufficient advance notice. The affected public is, however, informed of these rules through Local Notices to Mariners, press releases, and other means. Moreover, actual notification is provided by Coast Guard patrol vessels enforcing the restrictions imposed by the rule. Because Federal Register publication was not possible before the beginning of the effective period, mariners were personally notified of the contents of these special local regulations, security zones or safety zones by Coast Guard officials on-scene prior to any enforcement action. However, the Coast Guard, by law, must publish in the Federal Register notice of substantive rules adopted. To meet this obligation without imposing undue expense on the public, the Coast Guard periodically publishes a list of these special local regulations, security zones and safety zones. Permanent rules are not included in this list because they are published in their entirety in the Federal Register. Temporary rules are also published in their entirety if sufficient time is available to do so before they are placed in effect or terminated. The safety zones, special local regulations and security zones listed in this notice have been exempted from review under Executive Order 12866, Regulatory Planning and Review, because of their emergency nature, or limited scope and temporary effectiveness.

The following rules were placed in effect temporarily during the period from April 1, 2005, through June 30, 2005, unless otherwise indicated.

Dated: July 28, 2005.
S.G. Venckus,
Chief, Office of Regulations and Administrative Law.

Docket No. | Location | Type | Effective date
CGD01-05-035 | Boston, MA | Safety Zones | 6/17/2005
CGD01-05-043 | Lattingtown, NY | Safety Zones | 6/17/2005
CGD01-05-059 | Quincy, MA | Safety Zones | 6/20/2005
CGD05-05-026 | Portsmouth, VA | Special Local Regulations | 4/23/2005
CGD05-05-027 | Delaware river | Safety Zones | 4/8/2005
CGD05-05-030 | Baltimore, MD | Safety Zones | 4/22/2005
CGD05-05-034 | Norfolk, VA | Safety Zones | 4/22/2005
CGD05-05-036 | Annapolis, MD | Security Zones | 4/22/2005
CGD05-05-038 | Suffolk, VA | Safety Zones | 4/30/2005
CGD05-05-040 | New Bern, NC | Special Local Regulations | 5/7/2005
CGD05-05-042 | Mathews, VA | Safety Zones | 5/7/2005
CGD05-05-045 | Williamsburg, VA | Safety Zones | 5/3/2005
CGD05-05-053 | Norfolk, VA | Safety Zones | 5/13/2005
CGD05-05-056 | James River, VA | Safety Zones | 5/10/2005
CGD05-05-057 | Annapolis, MD | Security Zones | 5/27/2005
CGD05-05-062 | Norfolk, VA | Safety Zones | 6/3/2005
CGD05-05-063 | Mathews, VA | Safety Zones | 6/4/2005
CGD05-05-064 | Tappahannock, VA | Safety Zones | 6/4/2005
CGD05-05-065 | Hampton, VA | Safety Zones | 6/4/2005
CGD05-05-068 | Chesapeake Bay, VA | Safety Zones | 6/16/2005
CGD05-05-071 | Ocean City, MD | Safety Zones | 6/20/2005
CGD07-05-038 | Bucksport, SC | Special Local Regulations | 4/30/2005
CGD09-05-004 | Chicago, IL | Safety Zones | 5/18/2005
CGD09-05-007 | Marinette, Wisconsin | Safety Zones | 4/2/2005
CGD09-05-011 | Rochester, NY | Safety Zones | 4/11/2005
CGD09-05-012 | Hennepin, IL | Safety Zones | 4/28/2005
CGD09-05-013 | Cleveland, OH | Safety Zones | 5/3/2005
CGD09-05-015 | Sheboygan, WI | Safety Zones | 5/13/2005
CGD09-05-018 | Milwaukee, WI | Safety Zones | 5/19/2005
CGD09-05-020 | Lake St. Clair, MI | Safety Zones | 6/2/2005
CGD09-05-023 | Milwaukee, WI | Safety Zones | 6/3/2005
CGD09-05-024 | Grosse Pointe, MI | Safety Zones | 6/15/2005
CGD09-05-025 | Whiting, IN | Safety Zones | 6/15/2005
CGD09-05-028 | Bay City, MI | Safety Zones | 6/24/2005
CGD09-05-029 | Elberta, MI | Safety Zones | 6/25/2005
CGD09-05-030 | Port Huron, MI | Safety Zones | 6/25/2005
CGD09-05-031 | Detroit, MI | Safety Zones | 6/29/2005
CGD09-05-054 | Lake Ontario, NY | Security Zones | 6/30/2005
CGD11-05-003 | San Francisco Bay, CA | Special Local Regulations | 4/6/2005
CGD11-05-008 | San Francisco Bay, CA | Special Local Regulations | 5/6/2005
CGD13-05-010 | Columbia River, Portland, OR | Safety Zones | 4/27/2005
CGD13-05-014 | Kennewick, WA | Safety Zones | 5/14/2005
CGD13-05-019 | Portland, OR | Safety Zones | 5/25/2005
COTP CHARLESTON-05-065 | Charleston, SC | Safety Zones | 5/21/2005
COTP CORPUS CHRISTI-05-002 | Corpus Christi, TX | Safety Zones | 3/19/2005
COTP CORPUS CHRISTI-05-003 | Corpus Christi, TX | Safety Zones | 3/20/2005
COTP CORPUS CHRISTI-05-004 | Corpus Christi, TX | Safety Zones | 3/24/2005
COTP HOUSTON-GALVESTON-05-0007 | Galveston, TX | Safety Zones | 6/17/2005
COTP HUNTINGTON-05-003 | Huntington, WV | Safety Zones | 5/21/2005
COTP JACKSONVILLE-05-069 | Kings Bay, GA | Security Zones | 5/26/2005
COTP JACKSONVILLE-05-070 | St. Marys River, GA | Security Zones | 6/3/2005
COTP JACKSONVILLE-05-085 | Kings Bay, GA | Security Zones | 6/12/2005
COTP JACKSONVILLE-05-094 | St. Johns River | Security Zones | 6/28/2005
COTP JACKSONVILLE-05-095 | Saint Johns River, Mayport, FL | Security Zones | 6/9/2005
COTP KEY WEST-05-043 | Marathon, FL | Safety Zones | 3/2/2005
COTP MEMPHIS-05-006 | Memphis, TN | Safety Zones | 4/23/2005
COTP MOBILE-05-005 | Mobile, AL | Safety Zones | 3/21/2005
COTP MOBILE-05-008 | Biloxi, MS | Safety Zones | 4/23/2005
COTP MOBILE-05-009 | Panama City, FL | Safety Zones | 5/20/2005
COTP MOBILE-05-011 | Biloxi, MS | Safety Zones | 6/11/2005
COTP MOBILE-05-012 | Bayou La Batre, AL | Safety Zones | 6/11/2005
COTP MOBILE-05-013 | Gulf Shores, AL | Safety Zones | 6/11/2005
COTP MOBILE-05-014 | Santa Rosa Island, FL | Safety Zones | 6/11/2005
COTP MOBILE-05-015 | Aucilla River, FL | Safety Zones | 6/11/2005
COTP MORGAN CITY-05-032 | Montegut, LA | Safety Zones | 4/14/2005
COTP MORGAN CITY-05-074 | Houma, LA | Safety Zones | 6/20/2005
COTP NEW ORLEANS-05-018 | Belmont, LA | Safety Zones | 3/16/2005
COTP NEW ORLEANS-05-019 | New Orleans, LA | Safety Zones | 3/23/2005
COTP NEW ORLEANS-05-020 | Bayou Sorrell, LA | Safety Zones | 3/28/2005
COTP NEW ORLEANS-05-021 | New Orleans, LA | Safety Zones | 3/30/2005
COTP NEW ORLEANS-05-022 | Vicksburg, MS | Safety Zones | 4/16/2005
COTP NEW ORLEANS-05-023 | New Orleans, LA | Safety Zones | 4/12/2005
COTP NEW ORLEANS-05-024 | New Orleans, LA | Safety Zones | 4/9/2005
COTP NEW ORLEANS-05-025 | Fort Jackson, LA | Safety Zones | 4/23/2005
COTP NEW ORLEANS-05-026 | Pineville, LA | Safety Zones | 5/7/2005
COTP NEW ORLEANS-05-027 | Mendicant Island, LA | Safety Zones | 4/20/2005
COTP NEW ORLEANS-05-028 | St. Louis Bay, MS | Safety Zones | 5/19/2005
COTP OHIO VALLEY-05-001 | Clarksville, TN | Safety Zones | 6/23/2005
COTP PITTSBURGH-05-007 | Pittsburgh, PA | Safety Zones | 4/21/2005
COTP PITTSBURGH-05-010 | Pittsburgh, PA | Safety Zones | 5/20/2005
COTP PITTSBURGH-05-011 | Pittsburgh, PA | Safety Zones | 6/3/2005
COTP PORT ARTHUR-05-003 | Sabine, TX | Safety Zones | 4/11/2005
COTP PORT ARTHUR-05-004 | Sabine, TX | Safety Zones | 4/11/2005
COTP PORT ARTHUR-05-005 | Orange, TX | Safety Zones | 4/16/2005
COTP PORT ARTHUR-05-006 | Sabine-Neches Canal, TX | Safety Zones | 4/23/2005
COTP PORT ARTHUR-05-007 | Sabine, TX | Safety Zones | 4/28/2005
COTP PORT ARTHUR-05-008 | Sabine, TX | Safety Zones | 4/30/2005
COTP PORT ARTHUR-05-009 | Port Neches, TX | Safety Zones | 5/7/2005
COTP PORT ARTHUR-05-011 | Port Arthur, TX | Safety Zones | 6/23/2005
COTP SAN DIEGO-05-011 | Colorado River, AZ | Safety Zones | 4/23/2005
COTP SAN FRANCISCO BAY-05-005 | Napa River, California | Safety Zones | 3/22/2005
COTP SAN JUAN-05-046 | Guayama, Puerto Rico | Safety Zones | 4/23/2005
COTP SAVANNAH-05-026 | Savannah, GA | Security Zones | 3/7/2005
COTP SAVANNAH-05-045 | Savannah, GA | Security Zones | 4/23/2005
COTP SAVANNAH-05-061 | Savannah, GA | Security Zones | 5/7/2005
COTP SAVANNAH-05-064 | Savannah, GA | Security Zones | 5/19/2005
COTP SAVANNAH-05-071 | Savannah, GA | Security Zones | 6/8/2005
COTP SAVANNAH-05-086 | Savannah, GA | Security Zones | 6/16/2005
COTP ST LOUIS-05-001 | Illinois River | Safety Zones | 1/14/2005
COTP ST LOUIS-05-003 | Beardstown, IL | Safety Zones | 4/1/2005
COTP ST LOUIS-05-004 | St. Louis, MO | Safety Zones | 4/5/2005
COTP ST LOUIS-05-005 | Waverly, MO | Safety Zones | 5/11/2005
COTP ST LOUIS-05-006 | Upper Mississippi River | Safety Zones | 5/10/2005
COTP ST LOUIS-05-007 | St. Paul, MN | Safety Zones | 5/30/2005
COTP ST LOUISS-05-008 | Dubuque, IA | Safety Zones | 5/29/2005
COTP ST LOUISS-05-009 | Peoria, IL | Safety Zones | 6/17/2005
COTP ST LOUISS-05-011 | Quad Cities, IL | Safety Zones | 6/25/2005
COTP TAMPA-05-006 | Hillsborough Bay, FL | Safety Zones | 1/29/2005
COTP TAMPAS-05-008 | Tampa Bay, FL | Safety Zones | 2/4/2005
COTP TAMPAS-05-027 | Tampa Bay, FL | Safety Zones | 4/1/2005
COTP TAMPAS-05-077 | Tampa Bay, FL | Security Zones | 6/10/2005
COTP TAMPAS-05-093 | Tampa Bay, FL | Safety Zones | 6/24/2005
COTP TAMPAS-05-095 | Tampa Bay, FL | Safety Zones | 6/29/2005
COTP WESTERN ALASKA-05-007 | Cook Inlet, AK | Security Zones | 6/5/2005

[FR Doc. 05-15620 Filed 8-5-05; 8:45 am]

BILLING CODE 4910-15-M